DEPARTMENT OF ENERGY

Federal Energy Regulatory Commission

[Project No. 9951-055]

STS Hydropower, LLC; Township of Van Buren, Michigan; Notice of Intent To File License Application, Filing of Pre-Application Document (Pad), Commencement of ILP Pre-Filing Process; Waiving Parts of the ILP Pre-Filing Process; Request for Comments on the Pad and Scoping Document, and Identification of Issues and Associated Study Requests

a. Type of Filing: Notice of Intent to File License Application for a New License and Commencing Pre-filing Process.

b. Project No.: 9951-055.

c. Dated Filed: April 29, 2022.

d. Submitted By: STS Hydropower, LLC (STS Hydropower) and Township of Van Buren, Michigan (Township of Van Buren).

e. Name of Project: French Landing Hydroelectric Project (French Landing Project).

f. Location: The French Landing Project is located on the Huron River in Wayne County, Michigan. The project does not occupy federal land.

g. Filed Pursuant to: 18 CFR part 5 of the Commission's Regulations.

h. Applicant Contacts: Melissa Sonnleitner, STS Hydropower, LLC, c/o Eagle Creek RE Management, LLC, 116 N. State Street, P.O. Box 167, Neshkoro, WI 54960; (920) 293-4628 (extension 347); melissa.sonnleitner@eaglecreekre.com.

Tim Sullivan, Gomez and Sullivan Engineers, D.P.C, 41 Liberty Hill Road, P.O. Box 2179, Henniker, NH 03242; (716) 402-6795; timsullivan@gomezandsullivan.com.

i. FERC Contact: Aaron Liberty at (202) 502-6862 or email at aaron.liberty@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with: (a) the U.S. Fish and Wildlife Service and/or National Oceanic and Atmospheric Administration Fisheries under section 7 of the Endangered Species Act and the joint agency regulations thereunder at 50 CFR part 402 and (b) the State Historic Preservation Officer, as required by section 106, National Historic Preservation Act, and the implementing regulations of the Advisory Council on Historic Preservation at 36 CFR 800.2.

l. With this notice, we are designating STS Hydropower and the Township of Van Buren as the Commission's non-federal representatives for carrying out informal consultation, pursuant to section 7 of the Endangered Species Act and section 106 of the National Historic Preservation Act.

m. STS Hydropower and the Township of Van Buren filed with the Commission a Pre-Application Document (PAD, including a proposed process plan and schedule), pursuant to 18 CFR 5.6 of the Commission's regulations.

n. A copy of the PAD may be viewed on the Commission's website (http://www.ferc.gov) using the “eLibrary” link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC at FERCONlineSupport@ferc.gov or call toll-free, (866) 208-3676 or TYY, (202) 502-8659. A copy is also available for public inspection during normal business hours at the Van Buren Charter Township Clerk's Office, 46425 Tyler Road, Van Buren Township, Michigan 48111.

You may register online at https://ferconline.ferc.gov/FERCOnline.aspx to be notified via email of new filing and issuances related to this or other pending projects. For assistance, contact FERC Online Support.

o. With this notice, we are soliciting comments on the PAD and Commission staff's Scoping Document 1 (SD1), as well as study requests. All comments on the PAD and SD1, and study requests should be emailed (preferred) or mailed to the addresses above in paragraph h. In addition, all comments on the PAD and SD1, study requests, requests for cooperating agency status, and all communications to and from Commission staff related to the merits of the potential application must be filed with the Commission.

The Commission strongly encourages electronic filing. Please file all documents using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: French Landing Hydroelectric Project (P-9951-055).

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by August 27, 2022.

p. The Commission's scoping process will help determine the required level of analysis and satisfy the NEPA scoping requirements, irrespective of whether the Commission prepares an environmental assessment or Environmental Impact Statement.

Scoping Process

Due to ongoing concerns with large gatherings related to COVID-19, we do not intend to hold in-person public scoping meetings or an in-person environmental site review. Additionally, staff's review of the PAD indicates that the complexity of the resource issues is minor and the level of anticipated controversy associated with the project is expected to be minimal. Therefore, we are waiving section 5.8(b)(viii) of the Commission's regulations and do not intend to conduct a public scoping meeting or environmental site review in this case. Instead, we are soliciting written comments on the SD1. Any individual or entity interested in submitting scoping comments must do so by the date specified in item o. SD1, which outlines the subject areas to be addressed in the environmental document, was mailed to the individuals and entities on the Commission's mailing list. Copies of SD1 may be viewed on the web at http://www.ferc.gov, using the “eLibrary” link. Follow the directions for accessing information in paragraph n. Based on all written comments, a Scoping Document 2 (SD2) may be issued. SD2 may include a revised process plan and schedule, as well as a list of issues, identified through the scoping process.

Dated: June 23, 2022.
Kimberly D. Bose,
Secretary.

[FR Doc. 2022-13894 Filed 6-28-22; 8:45 am]

BILLING CODE 6717-01-P